DEPARTMENT OF THE INTERIOR

Bureau of Land Management

[BLM_NM_FRN_MO4500181426; NM105857366)]

Notice of Competitive Offer for Solar Energy Development on Public Land in Doña Ana County, NM

AGENCY: Bureau of Land Management, Interior

ACTION: Notice of competitive offer.

SUMMARY: The Bureau of Land Management (BLM) is accepting competitive bids on one parcel of public land in Doña Ana County, New Mexico, for solar energy development. The parcel offered for lease, Parcel 5, is located within the Afton Solar Energy Zone (SEZ). Bidders in this competitive bid process are competing to become the presumptive leaseholder of the specified lease.

DATES: The BLM will hold an in-person, competitive oral auction on November 14, 2024, at 10 a.m. Mountain Time. Interested bidders are required to pre-register for the in-person competitive oral auction by November 1, 2024, to allow sufficient time for the BLM to verify their qualifications and variable offsets (discounts). To register or learn more information about this effort, visit https://eplanning.blm.gov/eplanning-ui/project/2032349/510.

ADDRESSES: The competitive live auction will be held at the BLM Las Cruces District Office, 1800 Marquess Street, Las Cruces, New Mexico 88005.

FOR FURTHER INFORMATION CONTACT: BLM Project Manager Paula Montez at telephone: (575) 525-4387 or email: pmontez@blm.gov. Individuals in the United States who are deaf, deafblind, hard of hearing, or have a speech disability may dial 711 (TTY, TDD, or Tele Braille) to access telecommunications relay services. Individuals outside the United States should use the relay services offered within their country to make international calls to the point-of-contact in the United States.

SUPPLEMENTARY INFORMATION: The BLM received a high level of interest in the development of solar energy projects within the Afton SEZ, including through the submission of nominations and expressions of interest.

Parcel 5 Information

The BLM is conducting an in-person oral auction to lease one parcel of land: Parcel 5, consisting of approximately 937.5 acres of public lands within the Afton SEZ. The area is described as follows:

New Mexico Principal Meridian, New Mexico

T. 25 S., R. 1 E.,

Sec. 15, W½NE¼, W½, NW¼SE¼, NE¼NE¼NE¼SW¼SE¼, W½NE¼NE¼SW¼SE¼, W½NE¼SW¼SE¼, NW¼SE¼NE¼SW¼SE¼, W½SW¼SE¼, and W½SE¼SW¼SE¼;

Sec. 21, E½NE¼, NW¼NE¼, NE¼SW¼NE¼, N½SE¼SW¼NE¼, SE¼SE¼SW¼NE¼, NE¼NW¼, NE¼NW¼NW¼, E½NW¼NW¼NW¼, S½NW¼NW¼, and N½N½NE¼SE¼;

Sec. 22, W½NW¼NE¼, W½W½SW¼NE¼, NW¼, N½N½SW¼, N½SW¼NE¼SW¼, SE¼SW¼NE¼SW¼, and SE¼NE¼SW¼.

The area described is 937.5 acres.

Any lease issued will be subject to the terms and conditions specified in 43 CFR 2809.18, requirements identified through site-specific environmental analysis, and the terms and conditions outlined in the Determination of National Environmental Policy Act (NEPA) Adequacy document, dated July 27, 2024.

Auction Information

As provided for in 43 CFR 2809.13(a), bidding will occur through an in-person oral auction. More information will be made available at https://eplanning.blm.gov/eplanning-ui/project/2032349/510.

Interested bidders are required to pre-register with the BLM by November 1, 2024, to allow sufficient time for the BLM to verify bidders' qualifications and variable offsets. As required in 43 CFR 2803.10, bidders must be:

• An individual, association, corporation, partnership, or similar business entity, a Federal agency, or a State, Tribal, or local government;

• Technically and financially able to construct, operate, maintain, and terminate the use of the public lands being applied for; and

• Of legal age and authorized to do business in New Mexico.

Bidders may demonstrate their technical and financial capability by:

• Providing documentation of any successful experience in construction, operation, and maintenance of a similar sized solar facility on either public or non-public lands; and

• Providing documentation on the availability of sufficient capitalization to carry out development, including the preliminary study stage of the project and the environmental review and clearance process.

In order to be considered for a variable offset, bidders must submit their documentation to the BLM with their pre-registration packages.

Pre-registered bidders will be confirmed before the auction commences. To review complete details, frequently asked questions on the screening and bidding process, and to register for the auction, please visit: https://eplanning.blm.gov/eplanning-ui/project/2032349/510.

The BLM has determined a minimum acceptable bid for Parcel 5. The minimum bid represents the rent value of the land for 1 year under the BLM's solar per-acre rent schedule and an administrative fee of approximately $24 per acre. This cost covers the BLM's costs of preparing and conducting the competitive sale process. Rounding up to the nearest thousand-dollar value, the BLM has determined the minimum bid for Parcel 5 is $26,000. Bidding will start with the minimum bid and increase with subsequent bonus bids. The bonus bid consists of any dollar amount that a bidder wishes to bid in addition to the minimum bid. Variable offsets of up to 20 percent are available for qualified bidders. Variable offsets will reduce the bonus bid amount (not the minimum bid) that must be paid by the percent in which the bidder qualified. To qualify for variable offsets, bidders must meet any of the following criteria, each of which individually represents a potential percentage offset as indicated: (1) the bidder has submitted a nomination within the Afton SEZ prior to this notice of competitive offer (10 percent offset); and/or (2) the bidder proposes low-water use technology, for example photovoltaic development (5 percent offset); and/or (3) the bidder has control of other lands in immediate proximity for solar development (5 percent offset). Bidders wishing to utilize the variable offset must submit documentation showing their qualifications with their bids.

The bidder with the highest total bid (minimum and bonus bid), prior to any variable offsets, at the close of the auction will be the successful bidder and may become the presumptive leaseholder in accordance with 43 CFR 2809.15(b). The successful bidder will become the presumptive leaseholder only if they: (1) satisfy the qualifications in 43 CFR 2803.10 and 43 CFR 2809.15; and (2) make the required payments listed in this notice per 43 CFR 2809.15(d); and (3) do not have any trespass action pending against them for any activity on BLM-administered lands or have any unpaid debts owed to the Federal Government. Once all requirements of 43 CFR 2803.10 and 43 CFR 2809.15 are met, including BLM approval of the proposed Plan of Development, as outlined in 43 CFR 2809.15(b)(ii), as well as NEPA conformance, the presumptive leaseholder will become the leaseholder. The leaseholder must then submit a final Plan of Development in accordance with 43 CFR 2809.18(c).

The successful bidder will not become the presumptive leaseholder if they do not satisfy the requirements in 43 CFR 2809.15, do not execute the lease, or is for any reason disqualified from holding the lease. In the case when the successful bidder does not satisfy the requirements to become a presumptive leaseholder, the BLM may make the next highest bidder the successful bidder or re-offer the lands. The BLM will keep all money that has been submitted with the competitive process if the successful bidder does not satisfy the requirements of 43 CFR 2809.15(d).

The successful bidder must submit payment of the minimum bid and at least 20 percent of the winning bonus bid to the BLM Las Cruces District Office no later than noon on November 15, 2024. Within 15 calendar days after the auction, the successful bidder must: (1) pay the balance of the bonus bid (after the variable offsets are applied); and (2) submit the acreage rent for the first full year of the solar energy development lease. This amount will be applied toward the first 12 months acreage rent if the successful bidder becomes the leaseholder.

Any required payments must be submitted by personal check, cashier's check, certified check, bank draft (wire transfer or Automated Clearing House), or money order, or by other means deemed acceptable by the BLM, payable to the Department of the Interior—Bureau of Land Management. The administrative fee portion of the minimum bid will be retained by the agency to recover administrative costs for conducting the competitive bidding and related processes. The remainder of the minimum bid and bonus bid will be deposited with the U.S. Treasury. There will be no returned or refunded money to the successful bidder(s).

Only interests in issued right-of-way (ROW) leases are assignable under the regulations at 43 CFR 2807.21. The interest acquired by the successful bidder from this auction may not be assigned or sold to another party prior to the issuance of a ROW lease. The successful bidder may, however, continue to pursue their application if the successful bidder becomes a wholly owned subsidiary of a new third party.

Section 50265(b)(1) of the Inflation Reduction Act (codified at 43 U.S.C. 3006(b)(1)) conditions the issuance of wind and solar energy development ROWs on: (1) the BLM having held an onshore oil and gas lease sale during the 120-day period before the issuance of the wind or solar energy development; and (2) the BLM having offered—in the 1-year period preceding the date of the issuance of the lease—the lesser of two million acres or 50 percent of acreage for which expressions of interest had been submitted in that year. The BLM will ensure compliance with these provisions prior to issuing the solar development ROW lease to the successful bidder, if any.

(Authority: 43 CFR subpart 2809)

Melanie G. Barnes,
State Director, New Mexico State Office.

[FR Doc. 2024-22597 Filed 10-1-24; 8:45 am]

BILLING CODE 4331-23-P